PRESIDIO TRUST

The Presidio of San Francisco, California; Extension of the Public Comment Period for the Presidio Trust Implementation Plan Supplemental Environmental Impact Statement

AGENCY: The Presidio Trust.

ACTION: The Presidio Trust (Trust) is extending the scoping period from December 8, 2000 to January 15, 2001 to ensure adequate time for the public to review and comment on the proposed alternatives to be evaluated in the Presidio Trust Implementation Plan (PTIP) Environmental Impact Statement (EIS). The PTIP EIS is a supplement to the 1994 Final General Management Plan Amendment (GMPA) EIS for The Presidio of San Francisco (Presidio).

SUPPLEMENTARY INFORMATION: On June 30, 2000 the Trust published a notice announcing its intention to prepare a Supplemental EIS for PTIP and to hold two public scoping meetings to determine the scope of impact topics and alternatives to be addressed in the Supplemental EIS (65 FR 40707-08). On October 11, 2000 the Trust published a notice amending its June 30, 2000 notice to add a third public scoping meeting on November 15, 2000, to make factual corrections and to extend the previously announced scoping period from November 15, 2000 to December 8, 2000 (65 FR 60477-60478). The November 15, 2000 workshop will present conceptual alternatives to be addressed in the EIS and visions for the Presidio's future. The extension of the scoping period from December 8, 2000 to January 15, 2000 is being provided in response to several requests from commenting organizations and members of the public.

Public Meeting: The Trust will solicit public comments on the conceptual alternatives proposed for analysis in the EIS at the third of three public scoping workshops on Wednesday, November 15, 2000 from 6 to 9 p.m. at the Log Cabin (Building 1299), Fort Scott at the Presidio.

ADDRESSES: Written comments concerning the content of the plan and the scope of the Supplemental EIS should be sent by January 15, 2000 to John Pelka, NEPA Compliance Coordinator, the Presidio Trust, 34 Graham Street, P.O. Box 29052, San Francisco, CA 94129-0052. Fax: 415/561-5315. E-mail: ptip@presidiotrust.gov.

FOR FURTHER INFORMATION: Contact John Pelka, NEPA Compliance Coordinator, the Presidio Trust, 34 Graham Street, P.O. Box 29052, San Francisco, CA 94129-0052. Telephone: 415-561-5300.

Dated: November 6, 2000.
Karen A. Cook,
General Counsel.

[FR Doc. 00-28901 Filed 11-9-00; 8:45 am]

BILLING CODE 4310-4R-U